DEPARTMENT OF DEFENSE

Department of the Army; Corps of Engineers

Board on Coastal Engineering Research

AGENCY: Department of the Army, DoD.

ACTION: Notice of Advisory Committee meeting.

SUMMARY: The Department of the Army is publishing this notice to announce the following Federal advisory committee meeting of the Board on Coastal Engineering Research. This meeting is open to the public.

DATES AND LOCATION: The Board on Coastal Engineering Research will meet from 8:00 a.m. to 1:00 p.m. on September 1, 2015, and reconvene from 8:00 a.m. to 5:30 p.m. on September 2, 2015. The Executive Session of the Board will convene from 8:00 a.m. to 12:00 p.m. on September 3, 2015. All sessions will be held Rooms 175-185, Jadwin Building, U.S. Army Engineer District, Galveston, 2000 Fort Point Road, Galveston, TX 77550. All sessions are open to the public. For more information about the Board, please visit http://chl.erdc.usace.army.mil/cerb.

FOR FURTHER INFORMATION CONTACT: Mr. José E. Sánchez, Alternate Designated Federal Officer (ADFO), U.S. Army Engineer Research and Development Center, Waterways Experiment Station, 3909 Halls Ferry Road, Vicksburg, MS 39180-6199, phone 601-634-2001, or Jose.E.Sanchez@usace.army.mil.

SUPPLEMENTARY INFORMATION: The meeting is being held under the provisions of the Federal Advisory Committee Act (FACA) of 1972 (5 U.S.C., Appendix, as amended), the Government in the Sunshine Act of 1976 (5 U.S.C. 552b, as amended), and 41 CFR 102-3.150. The Board on Coastal Engineering Research provides broad policy guidance and reviews plans for the conduct of research and the development of research projects in consonance with the needs of the coastal engineering field and the objectives of the U.S. Army Chief of Engineers.

Purpose of the Meeting: The theme of the meeting is Coastal Navigation—Driving the U.S. Economy by Integrating Marine Transportation Infrastructure with Natural Coastal Systems. The purpose of the meeting is to identify the U.S. Gulf region's engineering challenges with nature and nature-based systems to enhance the resilience of coastal systems and marine transportation infrastructure and sustain the values they produce and to identify research and development needs to enable the U.S. Army Corps of Engineers and the Nation to deliver innovative solutions to meet these challenges and opportunities.

Agenda: On Tuesday morning, September 1, 2015, panel presentations will deal with the Integrated Coastal and Navigation Systems of the Texas Coast. Presentations will include The Texas Coast: Shoring Up Our Future—Implementation Challenges and Coastal Engineering Concerns; Storm Hazard Resilience Requirements of the Texas Coastal Industry's Energy Infrastructure and Implications for Modernizing Maritime Transportation Connections; Tackling the Most Challenging Built and Natural Infrastructure Sustainability and Resilience Problems of the Texas Coast; Leveraging Natural Systems and Functions for Delivering a Spectrum of Ecosystem Services, Restoration of Half Moon Reef in Matagorda Bay; The Galveston Bay Plan—A Comprehensive Conservation Management Plan for Galveston Bay, Galveston Bay Estuary Program: Regional Water and Sediment Quality Monitoring and Research Action Plan; USACE Engineering with Nature and Regional Sediment Management “Proving Ground” Initiatives; and a presentation from the Texas A&M University Coastal Engineering Department. There will be an optional field trip Tuesday afternoon, which is open to the public. It includes a bus tour to a beach nourishment project; inspection of integrated petrochemical facility, navigation, and structural flood risk management infrastructure; inspection of Port of Galveston facilities and cruise terminal with non-structural flood proofing; and a ferry ride across Bolivar Pass and return for inspection of potential surge gate location across Houston-Galveston Navigation Channel.

On Wednesday morning, September 2, 2015, the Board will reconvene to discuss Coastal Engineering with Nature and Regional Sediment Management. Presentations will include Performance Trends of South Padre Island Onshore and Nearshore Placement of Navigation Channel Maintenance Dredging Materials, Brazos Island Harbor; Challenges and Opportunities of In-Bay Sediment Placement in Mobile Bay: Science, Technology and Research Needs; Use of USACE Enterprise Tools for Life Cycle Systems Management of Dredged Materials: Gulf Intracoastal Waterway Pilot Project; and The Future of Nearshore Processes Research: Implementing a Research Plan by the Nearshore Processes Community. Wednesday morning and afternoon session continues with the Integrated Coastal and Navigation Systems panel. Presentations include Dredging Equipment/Environmental Windows Optimization of Navigation Systems in the Gulf of Mexico; Coastal and Navigation Asset Management: System Optimization Based on Cargo Flows for the Houston-Galveston Navigation Channel; Informing Coastal Vulnerabilities with World Class Science: Texas Coastal Ocean Observation Network; Research Needs on the Texas Coast for Resilient Regionally Integrated Multiple Lines of Defense for Coastal Storm Risk Management and Navigation Sustainability; Research Needs on a Hurricane Surge Barrier for the Houston-Galveston Bay Region; Research Needs of the Texas Protection and Restoration Project; and Navigation and Coastal Tools for the US. Gulf Coast: Capabilities and Research Needs.

The Board will meet in Executive Session to discuss ongoing initiatives and future actions on Thursday morning, September 3, 2015.

Meeting Accessibility: Pursuant to 5 U.S.C. 552b, as amended, and 41 CFR 102-3.140 through 102-3.165, and subject to the availability of space, the meeting is open to the public. Because seating capacity is limited, advance registration is required. Registration can be accomplished as set forth below. Because the meeting will be held in a Federal Government facility, security screening is required. A photo ID is required, and the name of each person seeking entry onto the facility will be checked against the list of names of those persons who have registered to attend the meeting. The guards reserve the right to inspect vehicles seeking to enter the facility. Individuals will be directed to the District Office building, where further security screening is required.

Oral participation by the public is scheduled for 3:45 p.m. on Wednesday, September 2, 2015. The Galveston District is fully handicap accessible. For additional information about public access procedures, please contact Mr. Sánchez, the Board's ADFO, at the email address or telephone number listed in the FOR FURTHER INFORMATION CONTACT section.

Registration: Individuals who wish to attend the meeting of the Board must register with the ADFO by email, the preferred method of contact, no later than August 28, using the electronic mail contact information found in the FOR FURTHER INFORMATION CONTACT section, above. The communication should include the registrant's full name, title, affiliation or employer, email address, and daytime phone number. If applicable, include written comments or statements with the registration email.

Written Comments and Statements: Pursuant to 41 CFR 102-3.015(j) and 102-3.140 and section 10(a)(3) of the FACA, the public or interested organizations may submit written comments or statements to the Board, in response to the stated agenda of the open meeting or in regard to the Board's mission in general. Written comments or statements should be submitted to Mr. José E. Sánchez, ADFO, via electronic mail, the preferred mode of submission, as the address listed in the FOR FURTHER INFORMATION CONTACT section above. Each page of the comment or statement must include the author's name, title or affiliation, address, and daytime phone number. The ADFO will review all submitted written comments or statements and provide them to members of the Board for their consideration. Written comments or statements being submitted in response to the agenda set forth in this notice must be received by the ADFO at least five business days prior to the meeting to be considered by the Board. The ADFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's ADFO, via electronic mail, the preferred mode of submission, at the address listed in the FOR FURTHER INFORMATION CONTACT section. The ADFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the ADFO.

José E. Sánchez,
Director, Coastal and Hydraulics Laboratory, Alternate Designated Federal Officer.

[FR Doc. 2015-19242 Filed 8-4-15; 8:45 am]

BILLING CODE 3720-58-P